DEPARTMENT OF HOMELAND SECURITY

Bureau of Customs and Border Protection

19 CFR Part 115

[CBP Dec. 09-27]

RIN 1651-AA78

Cargo Container and Road Vehicle Certification Pursuant to International Conventions: Designated Certifying Authorities

AGENCY: Customs and Border Protection, Department of Homeland Security.

ACTION: Final rule; technical amendment.

SUMMARY: This document amends the U.S. Customs and Border Protection (CBP) regulations in title 19 of the Code of Federal Regulations (CFR) concerning the certification of cargo containers for international transport pursuant to international customs conventions. These amendments reflect that the Commissioner of CBP has designated Lloyd's Register North America, Inc., as an authority in certifying containers for international transport under customs seal. This document further updates the addresses of three designated Certifying Authorities that are already listed in the CBP regulations.

DATES: This final rule is effective July 27, 2009.

FOR FURTHER INFORMATION CONTACT: Gary Rosenthal, Program Manager, Cargo Control Branch, Cargo and Conveyance Security, Office of Field Operations, (202) 344-2673.

SUPPLEMENTARY INFORMATION:

Background

The provisions of part 115 of the Customs and Border Protection (CBP) regulations (19 CFR part 115) establish procedures for certifying containers and road vehicles for international transport under customs seal in conformance with the Customs Convention on Containers (1956) (TIAS 6634), the Customs Convention on the International Transport of Goods Under Cover of TIR Carnets (1959) (TIAS 6633), the Customs Convention on the International Transport of Goods Under Cover of TIR Carnets, November 14, 1975 (TIAS), and the Customs Convention on Containers, 1972 (TIAS). The responsibility for the approval and certification of containers and road vehicles was transferred from the U. S. Coast Guard to the U.S. Customs Service (now CBP) by Executive Order 12445, dated October 17, 1983. Part 115 of the CBP regulations was promulgated by T.D. 86-92 which was published in the Federal Register (51 FR 16161) on May 1, 1986.

Under the certification program, containers and road vehicles, or proposed designs for such conveyances, may be submitted to various Certifying Authorities worldwide for approval. With respect to the designation of Certifying Authorities in the United States, § 115.3(a) of the CBP regulations (19 CFR 115.3(a)) defines a “Certifying Authority” as a non-profit firm or association, incorporated or established in the United States, which the Commissioner of CBP finds competent to carry out the functions set forth in §§ 115.8 through 115.14 of the CBP regulations (19 CFR 115.8-115.14), and which the Commissioner designates to certify containers and road vehicles for international transport under customs seal. The certification of containers and road vehicles for international transport under customs seal is voluntary, and non-certification does not preclude the use of containers and road vehicles in international commerce.

Section 115.6 of the CBP regulations (19 CFR 115.6) sets forth three Certifying Authorities that have been designated by the Commissioner to perform the examination and certification functions for containers and road vehicles. These are the American Bureau of Shipping, International Cargo Gear Bureau, Inc., and the National Cargo Bureau, Inc. Under § 115.7 of the CBP regulations (19 CFR 115.7), the Commissioner may designate additional Certifying Authorities.

On May 8, 2002, Lloyd's Register North America, Inc. (“Lloyd's”) filed a request with CBP for status as a Certifying Authority for containers and container-design types pursuant to 19 CFR part 115. This request was granted by the Commissioner by letter dated April 10, 2003. Lloyd's status as a Certifying Authority does not extend to certification for individual road vehicles or road vehicle design types covered in 19 CFR part 115, subparts E and F. This document amends § 115.6 to add Lloyd's to the list of designated Certifying Authorities only for containers and container-design types.

This document further amends § 115.6 to update the addresses of the previously-designated three Certifying Authorities, and also to clarify that they are approved entities for certifying both containers and road vehicles. Finally, this document revises § 115.6 to distinguish between the two types of Certifying Authorities designated by the Commissioner.

Signing Authority

This document is limited to technical corrections of CBP regulations. Accordingly, it is being issued in accordance with section 0.2(a) of the CBP regulations (19 CFR 0.2(a)).

Inapplicability of Notice and Delayed Effective Date Requirements

Because this amendment merely updates the list of Certifying Authorities designated by the Commissioner and their addresses, and neither imposes any additional burdens on, nor takes away any existing rights or privileges from, the public, pursuant to 5 U.S.C. 553(b)(B), notice and public procedure are unnecessary, and for the same reasons, pursuant to 5 U.S.C. 553(d)(3), a delayed effective date is not required.

Executive Order 12866 and Regulatory Flexibility Act

This final rule document does not meet the criteria for a “significant regulatory action” as specified in Executive Order 12866. In addition, because no notice of proposed rulemaking is required for the reasons stated above, the provisions of the Regulatory Flexibility Act (5 U.S.C. 601 et seq.) do not apply.

Paperwork Reduction Act

In accordance with the Paperwork Reduction Act of 1995 (44 U.S.C. 3507 et seq.), this final rule document contains no new information collection and recordkeeping requirements that require Office of Management and Budget approval.

Unfunded Mandates Reform Act of 1995

This final rule will not impose an unfunded mandate under the Unfunded Mandates Reform Act of 1995. It will not result in costs of $100 million or more, in the aggregate, to any of the following: State, local, or Native American tribal governments, or the private sector. This final rule would not result in such an expenditure.

Executive Order 13132

In accordance with the principles and criteria contained in Executive Order 13132 (Federalism), this final rule will have no substantial effect on the States, the current Federal-State relationship, or on the current distribution of power and responsibilities among local officials.

List of Subjects in 19 CFR Part 115

Containers, Customs duties and inspection, Freight, International conventions.

Amendments to the CBP Regulations

For the reasons set forth above, part 115, CBP regulations (19 CFR part 115), is amended as set forth below:

PART 115—CARGO CONTAINER AND ROAD VEHICLE CERTIFICATION PURSUANT TO INTERNATIONAL CUSTOMS CONVENTIONS

1. The authority citation for part 115, CBP regulations, continues to read as follows:

Authority: 5 U.S.C. 301, 19 U.S.C. 66, 1624; E.O. 12445 of October 17, 1983.

2. Section 115.6 is revised to read as follows:

§ 115.6 Designated Certifying Authorities.

(a) Certifying Authorities for containers and road vehicles. The Commissioner has designated the following Certifying Authorities for containers and road vehicles as defined in this part:

(1) The American Bureau of Shipping, ABS Plaza, 16855 Northchase Drive, Houston, Texas 77060-6008;

(2) International Cargo Gear Bureau, Inc., 321 West 44th Street, New York, New York 10036;

(3) The National Cargo Bureau, Inc., 17 Battery Place, Suite 1232, New York, New York 10004-1110.

(b) Certifying Authority for containers. The Commissioner has designated Lloyd's Register North America, Inc., 1401 Enclave Parkway, Suite 200, Houston, Texas 77077, as a Certifying Authority only for containers as defined in this part.

Dated: July 22, 2009.
Jayson P. Ahern,
Acting Commissioner, Customs and Border Protection.

[FR Doc. E9-17876 Filed 7-24-09; 8:45 am]

BILLING CODE 9111-14-P